SECURITIES AND EXCHANGE COMMISSION

[Release No. 34-46379; File No. SR-Amex-2002-69]

Self-Regulatory Organizations; Notice of Filing and Immediate Effectiveness of Proposed Rule Change by the American Stock Exchange LLC to Correct an Improperly Numbered Rule

August 19, 2002.

Pursuant to section 19(b)(1) of the Securities Exchange Act of 1934 (“Act”),¹ and Rule 19b-4 thereunder,² notice is hereby given that on August 14, 2002, the American Stock Exchange LLC (“Amex” or “Exchange”) filed with the Securities and Exchange Commission (“Commission”) the proposed rule change as described in Items I, II and III below, which Items have been prepared by the Exchange. The Amex has designated this proposal as one concerned solely with the administration of the Amex pursuant to section 19(b)(3)(A)(iii) of the Act,³ and Rule 19b-4(f)(3) ⁴ thereunder,⁵ which renders the proposal effective upon filing with the Commission. The Commission is publishing this notice to solicit comments on the proposed rule change from interested persons.

¹ 15 U.S.C. 78s(b)(1).

² 17 CFR 240.19b-4.

³ 15 U.S.C. 78s(b)(3)(A)(iii).

⁴ 17 CFR 240.19b-4(f)(3).

⁵ Despite inconsistencies in the proposed rule change, the Amex confirmed that the proposed rule change is filed pursuant to section 19(b)(3)(A)(iii) and Rule 19b-4(f)(3) thereunder, because it makes no substantive changes, and is concerned solely with the administration of the Amex. 15 U.S.C. 78s(b)(3)(A)(iii), 17 CFR 240.19b-4(f)(3). August 19, 2002 telephone conversation between Ivonne Natal, Assistant General Counsel, Amex, and Joseph Morra, Special Counsel, Division of Market Regulation, Commission.

I. Self-Regulatory Organization's Statement of the Terms of Substance of the Proposed Rule Change

The Amex proposes to change the rule number originally assigned to Amex Rule 431 (Anti-Money Laundering Compliance Program) to Amex Rule 432. The text of the proposed rule change is available at the Amex and at the Commission.

II. Self-Regulatory Organization's Statement of the Purpose of, and Statutory Basis for, the Proposed Rule Change

In its filing with the Commission, the Exchange included statements concerning the purpose of and basis for its proposal and discussed any comments it received regarding the proposal. The text of these statements may be examined at the places specified in Item IV below. The Amex has prepared summaries, set forth in sections A, B and C below, of the most significant aspects of such statements.

A. Self-Regulatory Organization's Statement of the Purpose of, and Statutory Basis for, the Proposed Rule Change

1. Purpose

The Exchange proposes to replace the rule number originally assigned to Amex Rule 431 (Anti-Money Laundering Compliance Program), and replace it with Amex Rule 432. The Amex chose the wrong rule number inadvertently when it filed SR-Amex-2002-52.⁶ At that time, there already existed an Amex Rule 431. The Amex proposes to make no other changes to the rule at this time.

⁶ See Securities Exchange Act Release No. 46258 (July 25, 2002), 67 FR 49715 (July 31, 2002) (approval order).

2. Statutory Basis

The Exchange believes that the proposal is consistent with section 6(b) of the Act ⁷ in general and furthers the objectives of section 6(b)(1) of the Act ⁸ in particular in that it is designed to enforce compliance by its members and persons associated with its members, with the rules of the Exchange.

⁷ 15 U.S.C. 78f(b).

⁸ 15 U.S.C. 78f(b)(1).

B. Self-Regulatory Organization's Statement on Burden on Competition

The Exchange does not believe that the proposed rule change will impose any burden on competition.

C. Self-Regulatory Organization's Statement on Comments on the Proposed Rule Change Received from Members, Participants or Others

No written comments were solicited or received with respect to the proposed rule change.

III. Date of Effectiveness of the Proposed Rule Change and Timing for Commission Action

The proposed rule change has become effective pursuant to section 19(b)(3)(A)(iii) of the Act ⁹ and subparagraph (f)(3) of Rule 19b-4 thereunder,¹⁰ because it is concerned solely with the administration of the Amex. At any time within 60 days of the filing of the proposed rule change, the Commission may summarily abrogate such rule change if it appears to the Commission that such action is necessary or appropriate in the public interest, for the protection of investors, or otherwise in furtherance of the purposes of the Act.

⁹ 15 U.S.C. 78s(b)(3)(A)(iii).

¹⁰ 17 CFR 240.19b-4(f)(3).

IV. Solicitation of Comments

Interested persons are invited to submit written data, views, and arguments concerning the foregoing, including whether the proposal is consistent with the Act. Persons making written submissions should file six copies thereof with the Secretary, Securities and Exchange Commission, 450 Fifth Street, NW., Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room. Copies of such filing will also be available for inspection and copying at the principal office of the Amex. All submissions should refer to file number SR-Amex-2002-69 and should be submitted by September 18, 2002.

For the Commission, by the Division of Market Regulation, pursuant to delegated authority.¹¹
¹¹ 17 CFR 200.30-3(a)(12).
Margaret H. McFarland,
Deputy Secretary.

[FR Doc. 02-21956 Filed 8-27-02; 8:45 am]

BILLING CODE 8010-01-P